DEPARTMENT OF COMMERCE

National Oceanic and Atmospheric Administration

[I.D. 062805C]

New England Fishery Management Council; Public Meeting

AGENCY: National Marine Fisheries Service (NMFS), National Oceanic and Atmospheric Administration (NOAA), Commerce.

ACTION: Notice; committee meeting.

SUMMARY: The New England Fishery Management Council's (Council) Scallop Oversight Committee will meet to consider actions affecting New England fisheries in the exclusive economic zone (EEZ).

DATES: The meeting will be held on Tuesday, July 19, 2005 from 9 a.m. to 5 p.m.

ADDRESSES: The meeting will be held at the Holiday Inn Boston, 225 McClellan Highway, Boston, MA 02128.

FOR FURTHER INFORMATION CONTACT: Paul J. Howard, Executive Director, New England Fishery Management Council; telephone: (978) 465-0492.

SUPPLEMENTARY INFORMATION: The items of discussion in the committee's agenda are as follows:

Agenda for Tuesday, July 19, 2005

1. Develop and consider alternatives for Framework Adjustment 18 to the Scallop Fishery Management Plan. These alternatives include the following issues identified and approved by the Council at the initial framework meeting in June: Input controls for the general category fishery to slow the growth in landings and to discourage new entry into the fishery; Alternatives which raise the crew limit to 8 or 9 persons for controlled access trips; Alternatives and procedures that would allow vessels with unused 2005 Hudson Canyon Area trips to fish them elsewhere in 2006; Alternatives for exchanging between vessels the 2006 Georges Bank access area trip allocations, including exchanges with 2007 Elephant Trunk Area trips; Alternatives to adjust the order and annual fishing mortality targets for the Georges Bank access areas; An alternative to allocate individual vessel allocations in pounds rather than trips; A triggered adjustment mechanism to change the 2007 specifications for the Elephant Trunk Area and open fishing areas based on 2005 or 2006 survey and other data.

2. Other Framework 18 alternatives and measures will be addressed during a future meeting, along with any of the above items that may be postponed due to a lack of time or information.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES) at least 5 days prior to the meeting date.

Dated: June 29, 2005.
Emily Menashes,
Acting Director, Office of Sustainable Fisheries, National Marine Fisheries Service.

[FR Doc. E5-3487 Filed 7-1-05; 8:45 am]

BILLING CODE 3510-22-S